DEPARTMENT OF COMMERCE

National Institute of Standards and Technology

Advisory Committee on Earthquake Hazards Reduction Meeting

AGENCY: National Institute of Standards and Technology, Department of Commerce.

ACTION: Notice of open meeting.

SUMMARY: The Advisory Committee on Earthquake Hazards Reduction (ACEHR or Committee), will meet on Thursday, April 9, 2015 from 8:30 a.m. to 5:00 p.m. Eastern Time and Friday, April 10, 2015, from 8:30 a.m. to 2:30 p.m. Eastern Time. The primary purpose of this meeting is to develop the Committee's 2015 Report on the Effectiveness of the National Earthquake Hazards Reduction Program (NEHRP) and to review the NEHRP agency updates on their latest activities. The agenda may change to accommodate Committee business. The final agenda will be posted on the NEHRP Web site at http://nehrp.gov/.

DATES: The ACEHR will meet on Thursday, April 9, 2015, from 8:30 a.m. until 5:00 p.m. Eastern Time. The meeting will continue on Friday, April 10, 2015, from 8:30 a.m. until 2:30 p.m. Eastern Time. The meeting will be open to the public.

ADDRESSES: The meeting will be held in the Portrait Room, Administration Building, National Institute of Standards and Technology (NIST), 100 Bureau Drive, Gaithersburg, Maryland 20899. Please note admittance instructions under the SUPPLEMENTARY INFORMATION section of this notice.

FOR FURTHER INFORMATION CONTACT: Tina Faecke, Management and Program Analyst, National Earthquake Hazards Reduction Program, Engineering Laboratory, NIST, 100 Bureau Drive, Mail Stop 8604, Gaithersburg, Maryland 20899-8604. Ms. Faecke's email address is tina.faecke@nist.gov and her phone number is (301) 975-5911.

SUPPLEMENTARY INFORMATION: The Committee was established in accordance with the requirements of Section 103 of the NEHRP Reauthorization Act of 2004 (Public Law 108-360). The Committee is composed of 13 members appointed by the Director of NIST, who were selected for their established records of distinguished service in their professional community, their knowledge of issues affecting NEHRP, and to reflect the wide diversity of technical disciplines, competencies, and communities involved in earthquake hazards reduction. In addition, the Chairperson of the U.S. Geological Survey (USGS) Scientific Earthquake Studies Advisory Committee (SESAC) serves as an ex-officio member of the Committee. The Committee assesses:

• Trends and developments in the science and engineering of earthquake hazards reduction;

• the effectiveness of NEHRP in performing its statutory activities;

• any need to revise NEHRP; and

• the management, coordination, implementation, and activities of NEHRP.

Background information on NEHRP and the Advisory Committee is available at http://nehrp.gov/.

Pursuant to the Federal Advisory Committee Act, as amended, 5 U.S.C. App., notice is hereby given that the ACEHR will hold an open meeting on Thursday, April 9, 2015 from 8:30 a.m. to 5:00 p.m. Eastern Time and Friday, April 10, 2015, from 8:30 a.m. to 2:30 p.m. Eastern Time. The meeting will be held in the Portrait Room, Administration Building, NIST, 100 Bureau Drive, Gaithersburg, Maryland 20899. The primary purpose of this meeting is to develop the Committee's 2015 Report on the Effectiveness of the NEHRP and to review the NEHRP agency updates on their latest activities. The agenda may change to accommodate Committee business. The final agenda will be posted on the NEHRP Web site at http://nehrp.gov/.

Individuals and representatives of organizations who would like to offer comments and suggestions related to the Committee's affairs are invited to request a place on the agenda. On April 10, 2015, approximately one-half hour will be reserved near the conclusion of the meeting for public comments, and speaking times will be assigned on a first-come, first-serve basis. The amount of time per speaker will be determined by the number of requests received, but is likely to be about three minutes each. Questions from the public will not be considered during this period. All those wishing to speak must submit their request by email to the attention of Ms. Tina Faecke, tina.faecke@nist.gov, by 5:00 p.m. Eastern time, Thursday, April 2, 2015.

Speakers who wish to expand upon their oral statements, those who had wished to speak but could not be accommodated on the agenda, and those who were unable to attend in person are invited to submit written statements to ACEHR, National Institute of Standards and Technology, 100 Bureau Drive, MS 8604, Gaithersburg, Maryland 20899-8604, via fax at (301) 975-4032, or electronically by email to tina.faecke@nist.gov.

All visitors to the NIST site are required to pre-register to be admitted. Anyone wishing to attend this meeting must register by 5:00 p.m. Eastern Time, Thursday, April 2, 2015, in order to attend. Please submit your full name, email address, and phone number to Felicia Johnson. Non-U.S. citizens must submit additional information; please contact Ms. Johnson. Ms. Johnson's email address is felicia.johnson@nist.gov and her phone number is (301) 975-5324. Also, please note that under the REAL ID Act of 2005 (P.L. 109-13), federal agencies, including NIST, can only accept a state-issued driver's license or identification card for access to federal facilities if issued by states that are REAL ID compliant or have an extension. NIST also currently accepts other forms of federal-issued identification in lieu of a state-issued driver's license. For detailed information please contact Ms. Johnson or visit: http://www.nist.gov/public_affairs/visitor/.

Dated: December 2, 2014.
Richard Cavanagh,
Acting Associate Director for Laboratory Programs.

[FR Doc. 2014-28686 Filed 12-5-14; 8:45 am]

BILLING CODE 3510-13-P